DEPARTMENT OF ENERGY

Federal Energy Regulatory Commission

[Project No. 14471-001]

West Street Hydro, Inc.; Notice of Intent To File License Application, Filing of Pre-Application Document, Approving Use of the Traditional Licensing Process

a. Type of Filing: Notice of Intent to File License Application and Request to Use the Traditional Licensing Process.

b. Project No.: 14471-001.

c. Date Filed: March 25, 2015.

d. Submitted By: West Street Hydro, Inc.

e. Name of Project: Ashuelot River Dam Hydroelectric Project.

f. Location: On the Ashuelot River, in Cheshire County, New Hampshire. No federal lands are occupied by the project works or located within the project boundary.

g. Filed Pursuant to: 18 CFR 5.3 of the Commission's regulations.

h. Potential Applicant Contact: Mr. Kenneth A. Stewart, West Street Hydro, Inc., 20 Central Square, Keene, NH 03431; phone: (603) 352-2448.

i. FERC Contact: Michael Watts at (202) 502-6123; or email at michael.watts@ferc.gov.

j. West Street Hydro, Inc., (West Street Hydro) filed its request to use the Traditional Licensing Process on March 25, 2015. West Street Hydro provided public notice of its request on April 2, 2015. In a letter issued on May 13, 2015, the Director of the Division of Hydropower Licensing approved West Street Hydro's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New Hampshire State Historic Preservation Officer, as required by section 106, National Historic Preservation Act, and the implementing regulations of the Advisory Council on Historic Preservation at 36 CFR 800.2.

l. West Street Hydro filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: October 6, 2016.
Kimberly D. Bose,
Secretary.

[FR Doc. 2016-24730 Filed 10-12-16; 8:45 am]

BILLING CODE 6717-01-P